DEPARTMENT OF TRANSPORTATION

Federal Aviation Administration

14 CFR Part 39

[Docket No. 2003-SW-17-AD; Amendment 39-13215; AD 2003-08-51]

RIN 2120-AA64

Airworthiness Directives; MD Helicopters, Inc. Model 369A, D, E, H, HE, HM, HS, F, and FF Helicopters; Correction

AGENCY: Federal Aviation Administration, DOT.

ACTION: Final rule; correction.

SUMMARY: This document corrects Airworthiness Directive (AD) 2003-08-51 for the specified MD Helicopters, Inc. helicopters that was published in the Federal Register on July 2, 2003 (68 FR 39449). The AD contains an incorrect part number (P/N). In all other respects, the original document remains the same.

DATES: Effective July 17, 2003, to all persons except those persons to whom it was made immediately effective by Emergency AD 2003-08-51, issued on April 15, 2003, which contained the requirements of this amendment.

FOR FURTHER INFORMATION CONTACT: Fred Guerin, Aviation Safety Engineer, FAA, Los Angeles Aircraft Certification Office, Airframe Branch, 3960 Paramount Blvd., Lakewood, California 90712, telephone (562) 627-5232, fax (562) 627-5210.

SUPPLEMENTARY INFORMATION: The FAA issued a final rule AD 2003-08-51, on June 3, 2003 (68 FR 39449, July 2, 2003). The following correction is needed:

The last P/N listed in paragraph (c) of the AD is incorrectly listed as 500P3500-70; the correct P/N is 500P3500-701. Therefore, the P/N needs correcting.

Since no other part of the regulatory information has been revised, the final rule is not being republished.

Correction of the Publication

Accordingly, the publication on July 2, 2003 of the final rule (AD 2003-08-51), which was the subject of FR Doc. 03-16687, is corrected as follows:

§ 39.13 [Corrected]

On page 39451, in the second column, paragraph (c), the last part number, “500P3500-70,” in that paragraph is corrected to read “500P3500-701”.

Issued in Fort Worth, Texas, on August 1, 2003.
Scott A. Horn,
Acting Manager, Rotorcraft Directorate, Aircraft Certification Service.

[FR Doc. 03-20237 Filed 8-8-03; 8:45 am]

BILLING CODE 4910-13-P